DEPARTMENT OF TRANSPORTATION

Federal Aviation Administration

14 CFR Part 39

[Docket No. FAA-2007-0230; Directorate Identifier 2007-NM-043-AD; Amendment 39-15419; AD 2008-06-07]

RIN 2120-AA64

Airworthiness Directives; Airbus Model A330-200, A330-300, A340-200, and A340-300 Series Airplanes

AGENCY: Federal Aviation Administration (FAA), Department of Transportation (DOT).

ACTION: Final rule.

SUMMARY: The FAA is superseding an existing airworthiness directive (AD), which applies to all Airbus Model A330-200, A330-300, A340-200, and A340-300 series airplanes. That AD currently requires an accelerated schedule of repetitive testing of the elevator servo control loops, and corrective actions if necessary. This new AD retains the existing requirements, reduces the applicability of the existing AD, and adds terminating actions. This AD results from reports of failed elevator servo controls due to broken guides. We are issuing this AD to prevent failure of the elevator servo controls during certain phases of takeoff, which could result in an unannounced loss of elevator control and consequent reduced controllability of the airplane.

DATES: This AD becomes effective April 16, 2008.

The Director of the Federal Register approved the incorporation by reference of certain publications listed in the AD as of April 16, 2008.

On November 29, 2005 (70 FR 69065, November 14, 2005), the Director of the Federal Register approved the incorporation by reference of Airbus All Operators Telex A330-27A3138, Revision 01, dated October 3, 2005; and Airbus All Operators Telex A340-27A4137, Revision 01, dated October 3, 2005.

ADDRESSES: For service information identified in this AD, contact Airbus, 1 Rond Point Maurice Bellonte, 31707 Blagnac Cedex, France.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Tim Backman, Aerospace Engineer, International Branch, ANM-116, FAA, Transport Airplane Directorate, 1601 Lind Avenue SW., Renton, Washington 98057-3356; telephone (425) 227-2797; fax (425) 227-1149.

SUPPLEMENTARY INFORMATION:

Discussion

The FAA issued a notice of proposed rulemaking (NPRM) to amend 14 CFR part 39 to include an AD that supersedes AD 2005-23-10, amendment 39-14368 (70 FR 69065, November 14, 2005). The existing AD applies to all Airbus Model A330-200, A330-300, A340-200, and A340-300 series airplanes. That NPRM was published in the Federal Register on November 26, 2007 (72 FR 65906). That NPRM proposed to retain the existing requirements, reduce the applicability of the existing AD, and add terminating actions.

Comments

We provided the public the opportunity to participate in the development of this AD. We have considered the comment that has been received on the NPRM.

Request To Extend Compliance Time for the Modification

Air Transport Association (ATA) and one of its members, Northwest Airlines (NWA), state that the terminating action specified in the proposed AD should be mandated at a maximum of 24 months after the effective date for coordination with the aircraft C-check intervals. NWA adds that the repetitive tests of the elevator servo-loops will ensure continued safe operation until terminating action is accomplished.

We do not agree with the request from ATA and NWA to extend the compliance time. In developing an appropriate compliance time for this action, we considered the urgency associated with the subject unsafe condition, the availability of required parts, and the practical aspect of accomplishing the required modification within a period of time that corresponds to the normal scheduled maintenance for most affected operators. In light of these items, we have determined that a 17-month compliance time is appropriate. However, according to the provisions of paragraph (q) of the AD, we may approve requests to adjust the compliance time if the request includes data that justify that the new compliance time would provide an acceptable level of safety.

Conclusion

We have carefully reviewed the available data, including the comment that has been submitted, and determined that air safety and the public interest require adopting the AD as proposed.

Costs of Compliance

The following table provides the estimated costs for U.S. operators of the affected Model A330-200 and A330-300 series airplanes to comply with this AD.

Estimated Costs
Action | Work hour(s) | Average labor rate per hour | Parts | Cost per airplane | Number of U.S.- registered airplanes | Fleet cost
Inspection (required by AD 2005-23-10) | 1 | $80 | None | $80, per inspection cycle. | 18 | $1,440, per inspection cycle.
Modifications (new actions) | 28 | 80 | The manufacturer states that it will supply required parts to the operators at no cost | $2,240 | 18 | $40,320.

Currently, there are no affected Model A340-200 and A340-300 series airplanes on the U.S. Register. However, if an affected airplane is imported and placed on the U.S. Register in the future, the modification would take about 10 work hours, at an average labor rate of $80 per work hour. The manufacturer states that it will supply required parts to the operators at no cost. Based on these figures, we estimate the cost of this AD for Model A340-200 and A340-300 series airplanes to be $800 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14368 (70 FR 69065, November 14, 2005), and by adding the following new airworthiness directive (AD):

2008-06-07 Airbus: Amendment 39-15419. Docket No. FAA-2007-0230; Directorate Identifier 2007-NM-043-AD.

Effective Date

(a) This AD becomes effective April 16, 2008.

Affected ADs

(b) This AD supersedes AD 2005-23-10.

Applicability

(c) This AD applies to the airplanes identified in Table 1 of this AD, certificated in any category.

Table 1.—Applicability
Airbus model— | Excluding those airplanes on which any of the following— | Has been installed—
A330-200, A330-300, A340-200, and A340-300 series airplanes | Airbus modification 54833 | In production.
| Airbus Service Bulletin A330-27-3136, Revision 01, dated July 19, 2006 | In service.
| Airbus Service Bulletin A340-27-4135, dated January 12, 2006 | In service.

Unsafe Condition

(d) This AD results from reports of failed elevator servo controls due to broken guides. We are proposing this AD to prevent failure of the elevator servo controls during certain phases of takeoff, which could result in an unannounced loss of elevator control and consequent reduced controllability of the airplane.

Compliance

(e) You are responsible for having the actions required by this AD performed within the compliance times specified, unless the actions have already been done.

Requirements of AD 2005-23-10:

Service Information

(f) The term “AOT,” as used in paragraphs (g) through (i) of this AD, means section 4.2. “Description” of the following service information, as applicable:

(1) For Model A330-200 and -300 series airplanes: Airbus All Operators Telex A330-27A3138, Revision 01, dated October 3, 2005; and

(2) For Model A340-200 and -300 series airplanes: Airbus All Operators Telex A340-27A4137, Revision 01, dated October 3, 2005.

Initial and Repetitive Elevator Servo-Loop Tests

(g) Within 200 flight hours after November 29, 2005 (the effective date of AD 2005-23-10): Test the elevator servo-loops, in accordance with the AOT, except as provided by paragraph (j) of this AD. If the test of the elevator servo-loops passes, repeat the test at intervals not to exceed 140 flight hours or 8 days, whichever occurs first.

Failed Tests

(h) If any test of the elevator servo-loops required by paragraph (g) of this AD fails: Before further flight, troubleshoot the cause of the test failure, and do the applicable corrective actions; in accordance with the AOT, except as provided by paragraph (j) of this AD. Thereafter, repeat the test at the times specified in paragraph (g) of this AD.

Reporting Requirement

(i) Following each test required by paragraph (g) of this AD, submit a report of the findings of only failed elevator servo-loop tests to Airbus Customer Services, Engineering and Technical Support, Attention: Mr. J. Laurent, SEE53, fax +33/(0)5.61.93.44.25; at the applicable time specified in paragraph (i)(1) or (i)(2) of this AD. The report must include the description of the failure experienced during the test, the identified cause of the failure, and the number of flight hours and flight cycles on the airplane. Under the provisions of the Paperwork Reduction Act of 1980 (44 U.S.C. 3501 et seq.), the Office of Management and Budget (OMB) has approved the information collection requirements contained in this AD and has assigned OMB Control Number 2120-0056.

(1) If the test was done after November 29, 2005: Submit the report within 10 days after the test.

(2) If the test was done prior to November 29, 2005: Submit the report within 10 days after November 29, 2005.

New Requirements of This AD

New Service Information for Testing

(j) As of the effective date of this AD, do the actions required by paragraphs (g) and (h) of this AD in accordance with the Accomplishment Instructions of the following service bulletins, as applicable.

(1) For Model A330-200 and -300 series airplanes: Airbus Service Bulletin A330-27-3138, Revision 02, excluding Appendix 01, dated May 30, 2006; and

(2) For Model A340-200 and -300 series airplanes: Airbus Service Bulletin A340-27-4137, Revision 02, excluding Appendix 01, dated May 30, 2006.

Terminating Actions

(k) Within 17 months after the effective date of this AD, modify the four elevator servo controls in accordance with the Accomplishment Instructions of Airbus Service Bulletin A330-27-3136, Revision 01, dated July 19, 2006 (for Model A330-200 and -300 series airplanes); or Airbus Service Bulletin A340-27-4135, dated January 12, 2006 (for Model A340-200 and -300 series airplanes); as applicable.

Note 1: Airbus Service Bulletins A330-27-3136 and A340-27-4135 refer to Goodrich Actuation Systems Service Bulletin SC4800-27-18, Revision 1, dated May 19, 2006, as an additional source of service information for accomplishing the modification required by paragraph (k) of this AD.

(l) Modifications done before the effective date of this AD in accordance with the Accomplishment Instructions of Airbus Service Bulletin A330-27-3136, dated January 12, 2006, are acceptable for compliance with the modification required by paragraph (k) of this AD.

(m) Concurrently with the modification required by paragraph (k) of this AD, modify the four elevator servo controls in accordance with the Accomplishment Instructions of Airbus Service Bulletin A330-27-3134, Revision 01, dated May 12, 2006 (for Model A330-200 and -300 series airplanes); or Airbus Service Bulletin A340-27-4132, dated October 13, 2005 (for Model A340-200 and -300 series airplanes); as applicable.

Note 2: Airbus Service Bulletins A330-27-3134 and A340-27-4132 refer to Goodrich Actuation Systems Service Bulletin SC4800-27-17, Revision 2, dated May 19, 2006, as an additional source of service information for accomplishing the modification required by paragraph (m) of this AD.

(n) Modifications done before the effective date of this AD in accordance with the Accomplishment Instructions of Airbus Service Bulletin A330-27-3134, dated October 13, 2005, are acceptable for compliance with the modification required by paragraph (m) of this AD.

(o) Accomplishment of the modifications required by paragraphs (k) and (m) of this AD constitutes terminating action for the requirements of paragraphs (f) through (i) of this AD.

Parts Installation

(p) As of the effective date of this AD, no person may install, on any airplane, an elevator servo control, unless it has been modified in accordance with paragraphs (k) and (m) of this AD.

Alternative Methods of Compliance (AMOCs)

(q)(1) The Manager, International Branch, ANM-116, Transport Airplane Directorate, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(r) European Aviation Safety Agency airworthiness directive 2007-0008, dated January 9, 2007, also addresses the subject of this AD.

Material Incorporated by Reference

(s) You must use the applicable Airbus service information contained in Table 2 of this AD to perform the actions that are required by this AD, unless the AD specifies otherwise.

Table 2.—All Material Incorporated by Reference
Service information | Revision | Date
Airbus All Operators Telex A330-27A3138 | 01 | October 3, 2005.
Airbus All Operators Telex A340-27A4137 | 01 | October 3, 2005.
Airbus Service Bulletin A330-27-3134 | 01 | May 12, 2006.
Airbus Service Bulletin A330-27-3136 | 01 | July 19, 2006.
Airbus Service Bulletin A330-27-3138, excluding Appendix 01 | 02 | May 30, 2006.
Airbus Service Bulletin A340-27-4132 | Original | October 13, 2005.
Airbus Service Bulletin A340-27-4135 | Original | January 12, 2006.
Airbus Service Bulletin A340-27-4137, excluding Appendix 01 | 02 | May 30, 2006.

(1) The Director of the Federal Register approved the incorporation by reference of the service information contained in Table 3 of this AD in accordance with 5 U.S.C. 552(a) and 1 CFR part 51.

Table 3.—All Material Incorporated by Reference
Service information | Revision | Date
Airbus Service Bulletin A330-27-3134 | 01 | May 12, 2006.
Airbus Service Bulletin A330-27-3136 | 01 | July 19, 2006.
Airbus Service Bulletin A330-27-3138, excluding Appendix 01 | 02 | May 30, 2006.
Airbus Service Bulletin A340-27-4132 | Original | October 13, 2005.
Airbus Service Bulletin A340-27-4135 | Original | January 12, 2006.
Airbus Service Bulletin A340-27-4137, excluding Appendix 01 | 02 | May 30, 2006.

(2) On November 29, 2005 (70 FR 69065, November 14, 2005), the Director of the Federal Register approved the incorporation by reference of Airbus All Operators Telex A330-27A3138, Revision 01, dated October 3, 2005; and Airbus All Operators Telex A340-27A4137, Revision 01, dated October 3, 2005.

(3) For service information identified in this AD, contact Airbus, 1 Rond Point Maurice Bellonte, 31707 Blagnac Cedex, France. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on March 3, 2008.
Ali Bahrami,
Manager, Transport Airplane Directorate, Aircraft Certification Service.

[FR Doc. E8-4671 Filed 3-11-08; 8:45 am]

BILLING CODE 4910-13-P